DEPARTMENT OF ENERGY

Federal Energy Regulatory Commission

[Docket No. RP02-14-000]

Crossroads Pipeline Company; Notice of Proposed Changes in FERC Gas Tariff

October 4, 2001.

Take notice that on October 1, 2001, Crossroads Pipeline Company (Crossroads) tendered for filing a revised tariff volume, First Revised Volume No. 1 superceding Original Volume No. 1, bearing a proposed effective date of November 1, 2001.

Crossroads states that the purpose of this filing is to revise the tariff of Crossroads to conform it more closely to the tariff format of Columbia Gas Transmission Corporation and thereby to facilitate the standardization of business practices and the ability of the pipelines to utilize common computer systems to the maximum extent possible.

As a result of the merger between NiSource, Inc. (NiSource) and the Columbia Energy Group (CEG) which merger was approved by the Commission on July 26, 2000, Crossroads, indirectly and wholly owned by NiSource, became affiliated with Columbia Gas Transmission Corporation (Columbia Gas) and Columbia Gulf Transmission Company (Columbia Gulf). Upon completion of the merger, the day-to-day tariff and customer service operations and administration of Crossroads was assigned to personnel performing similar functions for Columbia Gas.

Crossroads states that copies of its filing have been mailed to all firm customers, interruptible customers, and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-25516 Filed 10-10-01; 8:45 am]

BILLING CODE 6717-01-P